ENVIRONMENTAL PROTECTION AGENCY

[OPP-66300A; FRL-6831-6]

Notice of Receipt of Requests to Cancel Certain Chromated Copper Arsenate (CCA) Wood Preservative Products and Amend to Terminate Certain Uses of CCA Products; Extension of Comment Period

AGENCY: Environmental Protection Agency (EPA).

ACTION: Notice; extension of public comment period.

SUMMARY: Pursuant to section 6(f)(1) of the Federal Insecticide, Fungicide, and Rodenticide Act (FIFRA), as amended, EPA issued a notice of receipt of requests from registrants of affected chromated copper arsenate (CCA) products to cancel certain products and to amend to terminate certain uses of other CCA products. In the notice published on February 22, 2002, the Agency provided a 30-day comment period that expires on March 25, 2002. In a letter submitted on behalf of Elementis PLC and dated March 11, 2002, an extension of the period for submission of public comments was requested. After due consideration of the registrant's request, the Agency, by this notice, is hereby announcing that the deadline for submitting comments is extended from March 25, 2002, to April 9, 2002.

DATES: Comments on the matters announced in the February 22, 2002 Federal Register notice must be received on or before April 9, 2002.

ADDRESSES: Comments may be submitted by mail, electronically, or in person. Please follow the detailed instructions for each method as provided in Unit I. of the SUPPLEMENTARY INFORMATION of the February 22 Federal Register. To ensure proper receipt by EPA, it is imperative that you identify docket control number OPP-66300A in the subject line on the first page of your response.

FOR FURTHER INFORMATION CONTACT: By mail: Bonaventure Akinlosotu, Antimicrobial Division, Office of Pesticide Programs (7510C), Environmental Protection Agency, 1200 Pennsylvania Avenue, NW., Washington, DC 20460. Office location for commercial courier delivery, telephone number, and e-mail address: Rm. 308, Crystal Mall #2, 1921 Jefferson Davis Highway, Arlington, VA 22202, (703) 605-0653; e-mail: akinlosotu.bonaventure@epa.gov.

SUPPLEMENTARY INFORMATION: For additional information see the initial Federal Register notice of February 22, 2002 (67 FR 8244) (FRL-6826-8). A copy of the letter requesting the time extension has been placed in the official record of this action (docket control number OPP-66300).

I. Does this Action Apply to Me?

This action is directed to the public in general. You may be potentially affected by this action if you manufacture, sell, distribute, or use CCA products. The Congressional Review Act, 5 U.S.C. 801 et seq., as added by the Small Business Regulatory Enforcement Fairness Act of 1996, does not apply because this action is not a rule, for purposes of 5 U.S.C. 804(3). Since other entities may also be interested, the Agency has not attempted to describe all the specific entities that may be affected by this action. If you have any questions regarding the applicability of this action to a particular entity, consult the person listed under FOR FURTHER INFORMATION CONTACT.

II. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules” and then look up the entry for this document under the “Federal Register—Environmental Documents.” You can also go directly to the Federal Register listings at http://www.epa.gov/fedrgstr/.

2. In person. The Agency has established an official record for this action under docket control number OPP-66300. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

List of Subjects

Environmental protection.

Dated: March 18, 2002.
Frank Sanders,
Director, Antimicrobial Division, Office of Pesticide Programs.

[FR Doc. 02-6943 Filed 3-21-02; 8:45 a.m.]

BILLING CODE 6560-50-S